DEPARTMENT OF STATE

[Public Notice: 12784]

Advisory Committee on Historical Diplomatic Documentation—Notice of Meeting Cancellation

The September 8-9 and December 8-9 meetings of the Advisory Committee on Historical Diplomatic Documentation are cancelled. The Department will make a decision about the March 2026 meeting at a later time.

(Authority: 5 U.S.C. 1001 et seq. and 22 U.S.C. 2651a)

John C. Powers,
Acting Executive Secretary, Advisory Committee on Historical Diplomatic Documentation, U.S. Department of State.

Approved: | FSI/OH—John Powers | (JCP).
Drafted: | FSI/OH—Ashley Schofield, 240-353-9443
Cleared: | FSI/OH—Kathleen Rasmussen | (ok).
| A/SKS—Timothy Kootz | (ok).
| L/M—Alice Kottmyer | (ok).
| CGFS—Phyllis Jordan | (ok).
| CGFS/GAO—Julianne Shinnick | (ok).
| GPA—Charles Bouldin | (ok).

[FR Doc. 2025-14961 Filed 8-6-25; 8:45 am]

BILLING CODE 4710-34-P